FEDERAL RETIREMENT THRIFT INVESTMENT BOARD

5 CFR Part 1601

Participants' Choices of TSP Funds

AGENCY: Federal Retirement Thrift Investment Board.

ACTION: Correcting amendment.

SUMMARY: This document contains a correction to a final regulation that amended the Thrift Savings Plan regulations, which was published in the Federal Register of June 1, 2005 (70 FR 32208).

DATES: Effective on November 5, 2010.

FOR FURTHER INFORMATION CONTACT: Laurissa Stokes at 202-942-1645.

SUPPLEMENTARY INFORMATION: The Agency administers the Thrift Savings Plan (TSP), which was established by the Federal Employees' Retirement System Act of 1986 (FERSA), Public Law 99-335, 100 Stat. 514. The TSP provisions of FERSA are codified, as amended, largely at 5 U.S.C. 8351 and 8401-79. The TSP is a tax-deferred retirement savings plan for Federal civilian employees and members of the uniformed services. The TSP is similar to cash or deferred arrangements established for private-sector employees under section 401(k) of the Internal Revenue Code (26 U.S.C. 401(k)).

The final regulation that is the subject of this correction was published in the Federal Register on June 1, 2005 (70 FR 32208). As published, the final regulation contains an error or omission that may be misleading and needs to be clarified.

Section 1601.32 of 5 CFR states that contribution allocations or interfund transfer requests received at or before 12 noon eastern time of any business day will ordinarily be posted that business day. However, TSP participant publications all state that contribution allocations or interfund transfer requests received before 12 noon eastern time of any business day will ordinarily be posted that business day. Although the likelihood of the Agency receiving a request precisely at noon is low, and the modifier “ordinarily” would afford the Agency the opportunity to process the transaction the next business day, this final rule corrects the erroneous language to make the regulation consistent with TSP participant publications.

Regulatory Flexibility Act

I certify that this regulation will not have a significant economic impact on a substantial number of small entities. This regulation will affect Federal employees and members of the uniformed services who participate in the Thrift Savings Plan, which is a Federal defined contribution retirement savings plan created under the Federal Employees' Retirement System Act of 1986 (FERSA), Public Law 99-335, 100 Stat. 514, and which is administered by the Agency.

Paperwork Reduction Act

I certify that these regulations do not require additional reporting under the criteria of the Paperwork Reduction Act.

Unfunded Mandates Reform Act of 1995

Pursuant to the Unfunded Mandates Reform Act of 1995, 2 U.S.C. 602, 632, 653, 1501-1571, the effects of this regulation on state, local, and tribal governments and the private sector have been assessed. This regulation will not compel the expenditure in any one year of $100 million or more by state, local, and tribal governments, in the aggregate, or by the private sector. Therefore, a statement under section 1532 is not required.

Submission to Congress and the Government Accountability Office

Pursuant to 5 U.S.C. 810(a)(1)(A), the Agency submitted a report containing this rule and other required information to the U.S. Senate, the U.S. House of Representatives, and the Comptroller General of the United States before publication of this rule in the Federal Register. This rule is not a major rule as defined at 5 U.S.C. 804(2).

List of Subjects in 5 CFR Part 1601

Government employees, Pensions, Retirement.

Gregory T. Long,
Executive Director, Federal Retirement Thrift Investment Board.

Accordingly, 5 CFR part 1601 is corrected by making the following correcting amendment:

PART 1601—PARTICIPANTS' CHOICES OF TSP FUNDS

1. The authority citation for part 1601 continues to read as follows:

Authority: 5 U.S.C. 8351, 8438, 8474(b)(5) and (c)(1).

2. Revise § 1601.32(a)(1) to read as follows:

§ 1601.32 Timing and posting dates.

(a) * * *

(1) A transaction request entered into the TSP record keeping system by a participant who uses the TSP Web site or the ThriftLine, or by a TSP Service Office participant service representative at the participant's request, before 12 noon eastern time of any business day, will ordinarily be posted that business day. A transaction request entered into the system at or after 12 noon eastern time of any business day will ordinarily be posted on the next business day.

* * * * *

[FR Doc. 2010-28000 Filed 11-4-10; 8:45 am]

BILLING CODE 6760-01-P